DEPARTMENT OF COMMERCE

International Trade Administration

(A-549-817)

Certain Hot-Rolled Carbon Steel Flat Products from Thailand: Final Results of Antidumping Duty Administrative Review, Partial Revocation of Antidumping Duty Order and Partial Rescission of Antidumping Duty Administrative Review

AGENCY: Import Administration, International Trade Administration, Department of Commerce.

SUMMARY: The Department of Commerce (“the Department”) has conducted an administrative review of the antidumping duty order on certain hot-rolled carbon steel flat products from Thailand produced and/or exported by Sahaviriya Steel Industries Public Company Limited (“SSI”), Nakornthai Strip Mill Public Co., Ltd. (“Nakornthai”), and G Steel Public Company Limited (“G Steel”) ¹ (formerly Siam Strip Mill Public Co., Ltd.). The period of review (“POR”) is November 1, 2003, through October 31, 2004. Based on our analysis of comments received, these final results remain unchanged from the preliminary results. The final results are listed below in the “Final Results of Review” section.

¹ The Department notes that it erroneously referred to G Steel as “G Street Public Company Limited” in the Preliminary Results.

EFFECTIVE DATE: May 17, 2006.

FOR FURTHER INFORMATION CONTACT: Stephen Bailey or Abdelali Elouaradia, Import Administration, International Trade Administration, U.S. Department of Commerce, 14th Street and Constitution Ave, NW, Washington, DC 20230; telephone (202) 482-0193 and (202) 482-1374, respectively.

SUPPLEMENTARY INFORMATION:

Background

On December 9, 2005, the Department published the preliminary results and intent to revoke and partial rescission of its administrative review of the antidumping duty order on certain hot-rolled carbon steel flat products from Thailand. See Certain Hot-Rolled Carbon Steel Flat Products From Thailand; Preliminary Results of Antidumping Duty Administrative Review and Intent to Revoke and Rescind in Part, 70 FR 73197 (December 9, 2005) (Preliminary Results).

We invited parties to comment on the Preliminary Results. On December 22, 2005, United States Steel Corporation (petitioner) requested that the Department issue a questionnaire to SSI requesting certain financial information for the post-POR period. On January 4, 2006, the Department contacted Skadden, Arps, Slate, Meagher & Flom LLP, counsel to petitioner, and requested that petitioner provide a more thorough explanation for its December 22, 2005, request for certain post-POR financial information from SSI. See the Department's Memorandum to the File from Stephen Bailey, International Trade Compliance Analyst, dated January 5, 2006. On January 6, 2006, petitioner and Nucor Corporation (Nucor), a domestic interested party in this administrative review, submitted a joint letter providing a detailed explanation as to the relevance of the financial information petitioner requested the Department collect from SSI. On January 13, 2006, the Department requested SSI submit certain financial information for the post-POR period, which SSI did on January 18, 2006.

On January 17, 2006, SSI submitted a letter on the record of the 2004-2005 administrative review ² requesting that the 2004-2005 administrative review be rescinded with respect to SSI because certain entries into the U.S. during the 2004-2005 POR were actually sold pursuant to sales in the 2003-2004 POR, and these sales have already been examined and verified by the Department in the 2003-2004 administrative review. On January 18, 2006, SSI submitted a letter on the record of the 2003-2004 administrative review requesting certain information contained in its January 17, 2006, letter to the Department be placed on the record of the 2003-2004 administrative review. Specifically, SSI requested that information regarding its meaningful participation in the market for the 2004-2005 administrative review and the date of entry for merchandise entered during the 04-05 administrative review be placed on the record of the 2003-2004 administrative review. See SSI's January 18, 2006, letter to the Department at page 2 and exhibit A. On January 25, 2006, the Department issued a memorandum from Richard Weible, Office Director, to the File reiterating the Department's practice of conducting administrative reviews based on entries of subject merchandise during the POR. Furthermore, we explained that we intended to exclude sales that entered in the 04-05 administrative review period from the 03-04 administrative review. On January 27, 2006, SSI submitted a letter objecting to the Department's intention to exclude certain sales from the 03-04 administrative review.

² See Initiation of Antidumping and Countervailing Duty Administrative Reviews and Request for Revocation in Part, 70 FR 76024 (December 22, 2005).

On January 25, 2006, petitioner and Nucor filed joint comments on SSI's post-POR financial information submission. On January 31, 2006, SSI filed rebuttal comments to petitioner's and Nucor's January 25, 2006, comments regarding its post-POR financial information.

On February 7, 2006, the Department received case briefs from petitioner, Nucor and SSI. On February 10, 2006, SSI submitted a letter claiming that Nucor had submitted new factual information in its February 7, 2006, case brief. On February 13, 2006, the Department issued a letter to Nucor requesting that certain new factual information be edited from its case brief. On February 14, 2006, petitioner, Nucor and SSI submitted rebuttal briefs, and Nucor submitted a revised case brief excluding the new factual information as requested by the Department.

Partial Rescission

In our Preliminary Results, we announced our preliminary decision to rescind the review with respect to Nakornthai and G Steel because these companies had no entries of hot-rolled steel from Thailand during the POR. See Preliminary Results. We have received no new information contradicting this decision. Therefore, we are rescinding the administrative review with respect to Nakornthai and G Steel.

Scope of the Antidumping Duty Order

The products covered by this antidumping duty order are certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of this order.

Specifically included within the scope of this order are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of this order, regardless of definitions in the Harmonized Tariff Schedule of the United States (HTSUS), are products in which: i) Iron predominates, by weight, over each of the other contained elements; ii) the carbon content is 2 percent or less, by weight; and iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this review unless otherwise excluded. The following products, by way of example, are outside or specifically excluded from the scope of this order:

Alloy hot-rolled steel products in which at least one of the chemical elements exceeds those listed above (including, e.g., American Society for Testing and Materials (ASTM) specifications A543, A387, A514, A517, A506).

Society of Automotive Engineers (SAE)/American Iron & Steel Institute (AISI) grades of series 2300 and higher.

Ball bearing steels, as defined in the HTSUS.

Tool steels, as defined in the HTSUS.

Silico-manganese (as defined in the HTSUS) or silicon electrical steel with a silicon level exceeding 2.25 percent.

ASTM specifications A710 and A736.

USS abrasion-resistant steels (USS AR 400, USS AR 500).

All products (proprietary or otherwise) based on an alloy ASTM specification (sample specifications: ASTM A506, A507).

Non-rectangular shapes, not in coils, which are the result of having been processed by cutting or stamping and which have assumed the character of articles or products classified outside chapter 72 of the HTSUS.

The merchandise subject to this review is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by this review, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and CBP purposes, the written description of the merchandise is dispositive.

Analysis of Comments Received

The Department has received case and rebuttal briefs from petitioner, Nucor and SSI. All case and rebuttal briefs for the final results are addressed in the memorandum “Issues and Decision Memorandum for the Final Results of Antidumping Duty Administrative Review, Partial Revocation of Antidumping Duty Order and Partial Rescission of Antidumping Duty Administrative Review of Certain Hot-Rolled Carbon Steel Flat Products from Thailand” from Stephen J. Claeys, Deputy Assistant Secretary, Import Administration, to David M. Spooner, Assistant Secretary, Import Administration, dated May 8, 2006 (Decision Memorandum), which is hereby adopted by this notice. Attached to this notice as an Appendix is a list of the issues that petitioner, Nucor, and SSI have raised and to which we have responded in the Decision Memorandum. Parties can find a complete discussion of all issues raised in this review and the corresponding recommendations in the Decision Memorandum, which is on file in the Department's Central Records Unit, located at 14th Street and Constitution Avenue, NW, Room B-099. In addition, a complete version of the Decision Memorandum can be accessed directly on the Import Administration Web site at http://ia.ita.doc.gov/ under the heading Federal Register Notices. The paper copy and electronic version of the Decision Memorandum are identical in content.

The Department notes that SSI included in its rebuttal briefs a response to certain allegations of affiliation made by Nucor in its original February 7, 2006, case brief. Because the Department ultimately rejected Nucor's case brief with respect to its affiliation argument as new factual information, SSI's rebuttal argument will not be considered. See the Department's February 13, 2006, letter to Nucor rejecting its affiliation argument as new factual information.

Changes Since the Preliminary Results

Based on our analysis of comments received and findings at verification, we made the following changes from the preliminary results:

(1) We excluded certain United States sales form the analysis that entered after the POR;

(2) We adjusted SSI's general and administrative (G&A) to exclude revenue earned on the sale of scrap to offset G&A expenses, excluded the cost of scrap from the denominator of both the G&A and financial expense ratio calculations, and excluded revenue earned from the early redemption of a bond from the numerator of the G&A expense ratio calculation;

(3) We adjusted our computer programs to reflect a single level of trade in the home market and the United States market; and

(4) We excluded certain costs associated with SSI's hot-finishing line to avoid double counting in the cost calculation.

Final Results of Review

We determine that the following dumping margins exist for the period November 1, 2003 through October 31, 2004:

Manufacturer/Exporter | Margin (Percent)
SSI | 0.00

Assessment Rates

The Department will determine, and U.S. Customs and Border Protection (“CBP”) shall assess, antidumping duties on all appropriate entries, pursuant to section 751(a)(1)(B) of the Tariff Act of 1930 (“the Act”), and 19 CFR 351.212(b). The Department calculated importer-specific duty assessment rates on the basis of the ratio of the total amount of antidumping duties calculated for the examined sales to the total entered value of the examined sales for that importer. The Department clarified its “automatic assessment” regulation on May 6, 2003 (68 FR 23954). This clarification will apply to entries of subject merchandise during the period of review produced by companies included in these final results of reviews for which the reviewed companies did not know their merchandise was destined for the United States. In such instances, we will instruct CBP to liquidate unreviewed entries at the all-others rate if there is no rate for the intermediate company(ies) involved in the transaction. For a full discussion of this clarification, see Notice of Policy Concerning Assessment of Antidumping Duties, 68 FR 23954 (May 6, 2003). Antidumping duties for the rescinded companies, Nakornthai and G Steel, shall be assessed at rates equal to the cash deposit of estimated antidumping duties required at the time of entry, or withdrawal from warehouse, for consumption, in accordance with 19 CFR 351.212(c)(1)(I). The Department will issue appropriate assessment instructions directly to CBP within 15 days of publication of these final results of review.

Cash Deposit Requirements

The following deposit requirements will be effective upon publication of the final results of this administrative review for all shipments of the subject merchandise entered, or withdrawn from warehouse, for consumption on or after the publication date of these final results, as provided by section 751(a) of the Act: (1) Because the antidumping duty order on certain hot-rolled carbon steel flat products is being revoked with respect to SSI, no deposit will be required; (2) for merchandise exported by producers or exporters not covered in this review but covered in the investigation, the cash deposit rate will continue to be the company-specific rate from the most recent review; (3) if the exporter is not a firm covered in this review, a prior review, or the investigation, but the producer is, the cash deposit rate will be that established for the most recent period for the producer of the merchandise; and (4) the cash deposit rate for all other producers or exporters will be 3.86 percent, the “all others” rate established in the less-than-fair-value investigation (66 FR 49622, September 28, 2001). These deposit requirements shall remain in effect until publication of the final results of the next administrative review.

Notification of Interested Parties

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation, which is subject to sanction.

We are issuing and publishing this determination and notice in accordance with sections 751(a)(1) and 777(i)(1) of the Act.

Dated: May 8, 2006.
David M. Spooner,
Assistant Secretary for Import Administration.

Appendix

List of Comments and Issues in the Decision Memorandum

Comment 1: Revocation

Comment 2: Excluded Sales

Comment 3: Calculation of General and Administrative and Interest Expenses

Comment 4: Level of Trade

Comment 5: Variable Cost of Manufacture

[FR Doc. E6-7505 Filed 5-16-06; 8:45 am]

BILLING CODE 3510-DS-S